DEPARTMENT OF AGRICULTURE

Foreign Agricultural Service

WTO Agricultural Quantity-Based Safeguard Trigger Levels

AGENCY: Foreign Agricultural Service, U.S. Department of Agriculture.

ACTION: Notice of product coverage and trigger levels for safeguard measures provided for in the World Trade Organization (WTO) Agreement on Agriculture.

SUMMARY: This notice lists the updated quantity-based trigger levels for products which may be subject to additional import duties under the safeguard provisions of the WTO Agreement on Agriculture. This notice also includes the relevant period applicable for the trigger levels on each of the listed products.

DATES: May 20, 2014.

FOR FURTHER INFORMATION CONTACT: Souleymane Diaby, International Trade Specialist, Import Policies and Export Reporting Division, Office of Trade Programs, Foreign Agricultural Service, U.S. Department of Agriculture, Stop 1021, 1400 Independence Avenue SW., Washington, DC 20250-1021; by telephone (202) 720-2916; by fax (202) 720-0876; or by email Souleymane.Diaby@fas.usda.gov.

SUPPLEMENTARY INFORMATION: Article 5 of the WTO Agreement on Agriculture provides that additional import duties may be imposed on imports of products subject to tariffication as a result of the Uruguay Round, if certain conditions are met. The agreement permits additional duties to be charged if the price of an individual shipment of imported products falls below the average price for similar goods imported during the years 1986-88 by a specified percentage. It also permits additional duties to be imposed if the volume of imports of an article exceeds the average of the most recent 3 years for which data are available by 5, 10, or 25 percent, depending on the article. These additional duties may not be imposed on quantities for which minimum or current access commitments were made during the Uruguay Round negotiations, and only one type of safeguard, price or quantity, may be applied at any given time to an article.

Section 405 of the Uruguay Round Agreements Act requires that the President cause to be published in the Federal Register information regarding the price and quantity safeguards, including the quantity trigger levels, which must be updated annually based upon import levels during the most recent 3 years. The President delegated this duty to the Secretary of Agriculture in Presidential Proclamation No. 6763, dated December 23, 1994, 60 FR 1005 (Jan. 4, 1995). The Secretary of Agriculture further delegated this duty, which lies with the Administrator of the Foreign Agricultural Service (7 CFR 2.43(a)(2)). The Annex to this notice contains the updated quantity trigger levels.

Additional information on the products subject to safeguards and the additional duties which may apply can be found in subchapter IV of Chapter 99 of the Harmonized Tariff Schedule of the United States (2014) and in the Secretary of Agriculture's Notice of Uruguay Round Agricultural Safeguard Trigger Levels, published in the Federal Register at 60 FR 427 (Jan. 4, 1995).

Notice: As provided in Section 405 of the Uruguay Round Agreements Act, consistent with Article 5 of the WTO Agreement on Agriculture, the safeguard quantity trigger levels previously notified are superceded by the levels indicated in the Annex to this notice. The definitions of these products were provided in the Notice of Safeguard Action published in the Federal Register, at 60 FR 427 (Jan. 4, 1995).

Issued at Washington, DC, this 25th day of April, 2014.
Suzanne Palmieri,
Acting Administrator, Foreign Agricultural Service.

Annex-Quantity-Based Safeguard Trigger
Product | Trigger level | Period
Beef | 237,876 mt | January 1, 2014 to December 31, 2014.
Mutton | 5,278 mt | January 1, 2014 to December 31, 2014.
Cream | 129,711 liters | January 1, 2014 to December 31, 2014.
Evaporated or Condensed Milk | 952,925 kilograms | January 1, 2014 to December 31, 2014.
Nonfat Dry Milk | 482,615 kilograms | January 1, 2014 to December 31, 2014.
Dried Whole Milk | 3,315,900 kilograms | January 1, 2014 to December 31, 2014.
Dried Cream | 10,935 kilograms | January 1, 2014 to December 31, 2014.
Dried Whey/Buttermilk | 41,537 kilograms | January 1, 2014 to December 31, 2014.
Butter | 6,689,056 kilograms | January 1, 2014 to December 31, 2014.
Butter Oil and Butter Substitutes | 5,321,260 kilograms | January 1, 2014 to December 31, 2014.
Dairy Mixtures | 12,688,511 kilograms | January 1, 2014 to December 31, 2014.
Blue Cheese | 4,499,916 kilograms | January 1, 2014 to December 31, 2014.
Cheddar Cheese | 8,055,448 kilograms | January 1, 2014 to December 31, 2014.
American-Type Cheese | 201,684 kilograms | January 1, 2014 to December 31, 2014.
Edam/Gouda Cheese | 6,927,820 kilograms | January 1, 2014 to December 31, 2014.
Italian-Type Cheese | 18,259,276 kilograms | January 1, 2014 to December 31, 2014.
Swiss Cheese with Eye Formation | 25,055,569 kilograms | January 1, 2014 to December 31, 2014.
Gruyere Process Cheese | 3,293,010 kilograms | January 1, 2014 to December 31, 2014.
Lowfat Cheese | 157,337 kilograms | January 1, 2014 to December 31, 2014.
NSPF Cheese | 46,496,622 kilograms | January 1, 2014 to December 31, 2014.
Peanuts | 21,598 mt 20,493 mt | April 1, 2013 to March 31, 2014. April 1, 2014 to March 31, 2015.
Peanut Butter/Paste | 3,789 mt | January 1, 2014 to December 31, 2014.
Raw Cane Sugar | 1,033,635 mt 599,416 mt | October 1, 2013 to September 30, 2014. October 1, 2014 to September 30, 2015.
Refined Sugar and Syrups | 215,423 mt 198,613 mt | October 1, 2013 to September 30, 2014. October 1, 2014 to September 30, 2015.
Blended Syrups | 145 mt 60 mt | October 1, 2013 to September 30, 2014. October 1, 2014 to September 30, 2015.
Articles Over 65% Sugar | 238 mt 269 mt | October 1, 2013 to September 30, 2014. October 1, 2014 to September 30, 2015.
Articles Over 10% Sugar | 14,942 mt 15,471 mt | October 1, 2013 to September 30, 2014. October 1, 2014 to September 30, 2015.
Sweetened Cocoa Powder | 124 mt 84 mt | October 1, 2013 to September 30, 2014. October 1, 2014 to September 30, 2015.
Chocolate Crumb | 8,996,737 kilograms | January 1, 2014 to December 31, 2014.
Lowfat Chocolate Crumb | 173,391 kilograms | January 1, 2014 to December 31, 2014.
Infant Formula Containing Oligosaccharides | 380,061 kilograms | January 1, 2014 to December 31, 2014.
Mixes and Doughs | 178 mt 170 mt | October 1, 2013 to September 30, 2014. October 1, 2014 to September 30, 2015.
Mixed Condiments and Seasonings | 593 mt 653 mt | October 1, 2013 to September 30, 2014. October 1, 2014 to September 30, 2015.
Ice Cream | 2,241,098 liters | January 1, 2014 to December 31, 2014.
Animal Feed Containing Milk | 74,236 kilograms | January 1, 2014 to December 31, 2014.
Short Staple Cotton | 2,385,410 kilograms 2,899,397 kilograms | September 20, 2013 to September 19, 2014. September 20, 2014 to September 19, 2015.
Harsh or Rough Cotton | 60 kilograms 0 kilograms | August 1, 2013 to July 31, 2014. August 1, 2014 to July 31, 2015.
Medium Staple Cotton | 57,587 kilograms 57,587 kilograms | August 1, 2013 to July 31, 2014. August 1, 2014 to July 31, 2015.
Extra Long Staple Cotton | 505,834 kilograms 860,694 kilograms | August 1, 2013 to July 31, 2014. August 1, 2014 to July 31, 2015.
Cotton Waste | 589,849 kilograms 443,246 kilograms | September 20, 2013 to September 19, 2014. September 20, 2014 to September 19, 2015.
Cotton, Processed, Not Spun | 50,873 kilograms 4,035 kilograms | September 20, 2013 to September 19, 2014. September 20, 2014 to September 19, 2015.

[FR Doc. 2014-11613 Filed 5-19-14; 8:45 am]

BILLING CODE 3410-10-P